DEPARTMENT OF THE INTERIOR

Fish and Wildlife Service

50 CFR Part 17

[FWS-R3-ES-2012-N103; FX3ES11130300000D2-123-FF03E00000]

Endangered and Threatened Wildlife and Plants; 5-Year Status Reviews of Seven Listed Species

AGENCY: Fish and Wildlife Service, Interior.

ACTION: Notice of initiation of reviews; request for information.

SUMMARY: We, the U.S. Fish and Wildlife Service, are initiating 5-year status reviews under the Endangered Species Act of 1973, as amended (Act), of seven animal and plant species. We conduct these reviews to ensure that our classification of each species on the Lists of Endangered and Threatened Wildlife and Plants as threatened or endangered is accurate. A 5-year review assesses the best scientific and commercial data available at the time of the review. We are requesting the public to send us any information that has become available since the most recent status reviews on each of these species. Based on review results, we will determine whether we should change the listing status of any of these species.

DATES: To ensure consideration, please send your written information by August 28, 2012. However, we will continue to accept new information about any listed species at any time.

ADDRESSES: For how and where to send comments or information, see “VIII. Contacts” under SUPPLEMENTARY INFORMATION.

FOR FURTHER INFORMATION CONTACT: To request information, see “VIII. Contacts” under SUPPLEMENTARY INFORMATION. Individuals who are hearing impaired or speech impaired may call the Federal Relay Service at 800-877-8337 for TTY (telephone typewriter or teletypewriter) assistance.

SUPPLEMENTARY INFORMATION:

I. Why do we conduct 5-year reviews?

Under the Act (16 U.S.C. 1531 et seq.), we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Then, under section 4(c)(2)(B), we determine whether to remove any species from the List (delist), to reclassify it from endangered to threatened, or to reclassify it from threatened to endangered. Any change in Federal classification requires a separate rulemaking process.

In classifying, we use the following definitions, from 50 CFR 424.02:

(A) Species includes any species or subspecies of fish, wildlife, or plant, and any distinct population segment of any species of vertebrate, that interbreeds when mature;

(B) Endangered species means any species that is in danger of extinction throughout all or a significant portion of its range; and

(C) Threatened species means any species that is likely to become an endangered species within the foreseeable future throughout all or a significant portion of its range.

We must support delisting by the best scientific and commercial data available, and only consider delisting if data substantiate that the species is neither endangered nor threatened for one or more of the following reasons (50 CFR 424.11(d)):

(A) The species is considered extinct;

(B) The species is considered to be recovered; or

(C) The original data available when the species was listed, or the interpretation of data, were in error.

Our regulations at 50 CFR 424.21 require that we publish a notice in the Federal Register announcing the species we are reviewing.

II. What species are under review?

This notice announces our active 5-year status reviews of the species in the following table.

Species Under 5-Year Review
Common name | Scientific name | Status | Where listed | Final listing rule publication date and citation
Animals
Warbler (wood), Kirtland's | Dendroica kirtlandii | Endangered | U.S.A. (principally MI), Canada, West Indies—Bahama Islands | March 11, 1967 (32 FR 4001).
Darter, Niangua | Etheostoma nianguae | Threatened | U.S.A. (MO) | June 12, 1985 (50 FR 24649).
Catspaw, white (pearlymussel) | Epioblasma obliquata perobliqua | Endangered | U.S.A. (IN, MI, OH) | June 14, 1976 (41 FR 24064).
Dragonfly, Hine's emerald | Somatochlora hineana | Endangered | U.S.A. (AL, IL, IN, MI, MO, OH, WI) | January 26, 1995 (60 FR 5273).
Plants
Dwarf lake iris | Iris lacustris | Threatened | U.S.A. (MI, WI), Canada (Ont.) | September 28, 1988 (53 FR 37972).
Eastern prairie fringed orchid | Platanthera leucophaea | Threatened | U.S.A. (AR, IA, IL, IN, ME, MI, MO, NE, NJ, NY, OH, OK, PA, VA, WI), Canada (Ont., N.B.) | September 28, 1989 (54 FR 39863).
Houghton's goldenrod | Solidago houghtonii | Threatened | U.S.A. (MI), Canada (Ont.) | July 18, 1988 (53 FR 27134).

III. What do we consider in our review?

We consider all new information available at the time we conduct a 5-year review. We consider the best scientific and commercial data that have become available since our current listing determination, or most recent status review that is accessible from our Web site http://www.fws.gov/midwest/Endangered/recovery/5yr_rev/completed5yrs.html, such as:

(A) Species biology, including but not limited to population trends, distribution, abundance, demographics, and genetics;

(B) Habitat conditions, including but not limited to amount, distribution, and suitability;

(C) Conservation measures that have been implemented that benefit the species;

(D) Threat status and trends (see five factors under heading “How Do We Determine Whether a Species Is Endangered or Threatened?”); and

(E) Other new information, data, or corrections, including but not limited to taxonomic or nomenclatural changes, identification of erroneous information contained in the List, and improved analytical methods.

IV. How do we determine whether a species is endangered or threatened?

Section 4(a)(1) of the Act requires that we determine whether a species is endangered or threatened based on one or more of the five following factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

Under section 4(b)(1) of the Act, we must base our assessment of these factors solely on the best scientific and commercial data available.

V. What could happen as a result of our review?

For each species under review, if we find new information that indicates a change in classification may be warranted, we may propose a new rule that could do one of the following:

(A) Reclassify the species from threatened to endangered (uplist);

(B) Reclassify the species from endangered to threatened (downlist); or

(C) Remove the species from the List (delist).

If we determine that a change in classification is not warranted, then the species remains on the List under its current status.

VI. Request for New Information

To ensure that a 5-year review is complete and based on the best available scientific and commercial information, we request new information from all sources. See “What Information Do We Consider in Our Review?” for specific criteria. If you submit information, support it with documentation such as maps, bibliographic references, methods used to gather and analyze the data, and/or copies of any pertinent publications, reports, or letters by knowledgeable sources.

Submit your comments and materials to the appropriate U.S. Fish and Wildlife Service office listed under “VIII. Contacts.”

Submit all electronic information in Text or Rich Text format to FW3MidwestRegion_5YearReview@fws.gov. Please send information for each species in a separate email. Provide your name and return address in the body of your message, and include the following identifier in your email subject line: Information on 5-year review for [NAME OF SPECIES].

VII. Public Availability of Comments

Before including your address, phone number, email address, or other personal identifying information in your comment, you should be aware that your entire comment—including your personal identifying information—may be made publicly available at any time. While you can ask us in your comment to withhold your personal identifying information from public review, we cannot guarantee that we will be able to do so. Comments and materials received will be available for public inspection, by appointment, during normal business hours at the offices where the comments are submitted.

VIII. Contacts

Send your comments and information on the following species, as well as requests for information, to the corresponding contacts. You may view information we receive in response to this notice, as well as other documentation in our files, at the following locations by appointment, during normal business hours.

Species | Contact person, phone, email | Contact address
Kirtlands's warbler | Dan Elbert, (517) 351-7261, daniel_elbert@fws.gov | East Lansing Field Office, U.S. Fish and Wildlife Service, 2651 Coolidge Road, Suite 101, East Lansing, MI 48823-6316.
Niangua darter | Rick Hansen, (573) 234-2132, extension 106, rick_hansen@fws.gov | Columbia Missouri Field Office, U.S. Fish and Wildlife Service, 101 Park DeVille Drive, Suite A, Columbia, MO 65203-0007.
White catspaw | Angela Boyer, (614) 416-8993, extension 22, angela_boyer@fws.gov | Columbus Ohio Field Office, U.S. Fish and Wildlife Service, 4625 Morse Road, Suite 104, Columbus, OH 43230.
Hine's emerald dragonfly | Kris Lah, (847) 381-2253, extension 15, kristopher_lah@fws.gov | Chicago Illinois Field Office, U.S. Fish and Wildlife Service, 1250 South Grove Avenue, Suite 103, Barrington, IL 60010-5010.
Dwarf lake iris | Barbara Hosler, (517) 351-6326, barbara_hosler@fws.gov | East Lansing Field Office, U.S. Fish and Wildlife Service, 2651 Coolidge Road, Suite 101, East Lansing, MI 48823-6316.
Eastern prairie fringed orchid | Cathy Pollack, (847) 381-2253, extension 28, cathy_pollack@fws.gov | Chicago Illinois Field Office, U.S. Fish and Wildlife Service, 1250 South Grove Avenue, Suite 103, Barrington, IL 60010-5010.
Houghton's goldenrod | Tameka Dandridge, (517) 351-8315, tameka_dandridge@fws.gov | East Lansing Field Office, U.S. Fish and Wildlife Service, 2651 Coolidge Road, Suite 101, East Lansing, MI 48823-6316.

IX. Authority

We publish this notice under the authority of the Endangered Species Act of 1973, as amended (16 U.S.C. 1531 et seq.).

Dated: May 21, 2012.
Lynn M. Lewis,
Assistant Regional Director, Ecological Services, Midwest Region.

[FR Doc. 2012-14941 Filed 6-28-12; 8:45 am]

BILLING CODE 4310-55-P